COMMODITY FUTURES TRADING COMMISSION

Privacy Act of 1974; System of Records

AGENCY: Commodity Futures Trading Commission.

ACTION: Notice of a new system of records.

SUMMARY: The Commodity Futures Trading Commission (CFTC or Commission) is establishing a new system of records under the Privacy Act of 1974: CFTC-51, Contractors and Consultants. New CFTC-51 addresses information collected from individuals who serve as contractors and consultants to CFTC.

DATES: Comments must be received on or before March 14, 2018. This action will be effective without further notice on March 14, 2018, unless revised pursuant to comments received.

ADDRESSES: You may submit comments to this notice by any of the following methods:

• Agency website, via its Comments Online process: https://comments.cftc.gov. Follow the instructions for submitting comments through the website.

• Federal eRulemaking Portal: Comments may be submitted at http://www.regulations.gov. Follow the instructions for submitting comments.

• Mail: Christopher Kirkpatrick, Secretary of the Commission, Commodity Futures Trading Commission, Three Lafayette Centre, 1155 21st Street NW, Washington, DC 20581.

• Hand Delivery/Courier: Same as Mail, above.

Please submit your comments using only one method.

All comments must be submitted in English, or if not, accompanied by an English translation. Comments will be posted as received to http://www.cftc.gov. You should submit only information that you wish to make available publicly. If you wish the Commission to consider information that you believe is exempt from disclosure under the Freedom of Information Act (FOIA), a petition for confidential treatment of the exempt information may be submitted according to the procedures established in § 145.9 of the Commission's regulations, 17 CFR 145.9.

The Commission reserves the right, but shall have no obligation, to review, pre-screen, filter, redact, refuse, or remove any or all of a submission from http://www.cftc.gov that it may deem to be inappropriate for publication, such as obscene language. All submissions that have been redacted or removed that contain comments on the merits of the notice will be retained in the comment file, will be considered as required under all applicable laws, and may be accessible under the FOIA.

FOR FURTHER INFORMATION CONTACT: Chief Privacy Officer, privacy@cftc.gov, Office of the Executive Director, Commodity Futures Trading Commission, Three Lafayette Centre, 1155 21st Street NW, Washington, DC 20581.

SUPPLEMENTARY INFORMATION:

I. Contractors and Consultants Records

The Contractors and Consultant records system contains information about individuals who have contracted with the CFTC to provide various supplies and services. Collection of this information is necessary to accurately document, award, and manage procurement actions, including ensuring that contractors and consultants are compensated for goods delivered or services performed and to track and manage the fulfillment of such contractual obligations.

II. The Privacy Act

Under the Privacy Act of 1974, 5 U.S.C. 552a, a “system of records” is defined as any group of records under the control of a federal government agency from which information about individuals is retrieved by name or other personal identifier. The Privacy Act establishes the means by which government agencies must collect, maintain, and use personally identifiable information associated with an individual in a government system of records.

Each government agency is required to publish a notice in the Federal Register of a system of records in which the agency identifies and describes each system of records it maintains, the reasons why the agency uses the personally identifying information therein, the routine uses for which the agency will disclose such information outside the agency, and how individuals may exercise their rights under the Privacy Act to determine if the system contains information about them.

SYSTEM NAME AND NUMBER

Contractors and Consultants; CFTC-51.

SECURITY CLASSIFICATION:

Unclassified.

SYSTEM LOCATION:

This system is located at Department of Transportation Enterprise Service Center (ESC) in Oklahoma City, Oklahoma, and the Commodity Futures Trading Commission, Three Lafayette Centre, 1155 21st Street NW, Washington, DC 20581.

SYSTEM MANAGER(S):

Office of Executive Director (OED), Commodity Futures Trading Commission, Three Lafayette Centre, 1155 21st Street NW, Washington, DC 20581.

AUTHORITY FOR MAINTENANCE OF THE SYSTEM:

The collection of this information is authorized by or under 5 U.S.C. 301; Executive Order 9373; the Office of Federal Procurement Policy Act (41 U.S.C. 405).

PURPOSE(S) OF THE SYSTEM:

The information in the system is being collected to maintain records on CFTC contractors and consultants. Collection of this information is necessary (1) to accurately document, award, and manage procurement actions, including ensuring that contractors and consultants are compensated for goods delivered or services performed, and (2) to track and manage the fulfillment of such contractual obligations from requirements gathering to contract closeout, workload management, and reporting.

CATEGORIES OF INDIVIDUALS COVERED BY THE SYSTEM:

Individuals covered by this system include individuals who serve as contractors or consultants to CFTC.

CATEGORIES OF RECORDS IN THE SYSTEM:

The system of records includes information that may contain: Individual's name, Social Security number, home address, telephone numbers (work, home, mobile), email addresses, contract name and number, employer, work address, job title, labor category, relevant work experience, resumes, CFTC-issued property in the possession of the contractor/consultant for the purpose of fulfilling contractual requirements, correspondence between the contractor and CFTC, status reports, proposals, invoices, financial account and banking information, and other pre- and post-award documents.

RECORD SOURCE CATEGORIES:

Information in this system is obtained directly from the individual who is the subject of these records or from designated third parties, for example, the employer of the individual contractor or consultant.

ROUTINE USES OF RECORDS MAINTAINED IN THE SYSTEM, INCLUDING CATEGORIES OF USERS AND THE PURPOSES OF SUCH USES:

These records and information in these records may be used:

(a) To disclose information to contractors, grantees, volunteers, experts, students, and others performing or working on a contract, service, grant, cooperative agreement, or job for the Federal government when necessary to accomplish an agency function;

(b) To disclose information to Congress upon its request, acting within the scope of its jurisdiction, pursuant to the Commodity Exchange Act, 7 U.S.C. 1 et seq., and the rules and regulations promulgated thereunder;

(c) To disclose information to Federal, State, local, territorial, Tribal, or foreign agencies for use in meeting their statutory or regulatory requirements;

(d) To disclose to appropriate agencies, entities, and persons when (1) the Commission suspects or has confirmed that there has been a breach of the system of records; (2) the Commission has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm; or

(e) To disclose to another Federal agency or Federal entity, when the Commission determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

The Contractor and Consultant system of records stores records in this system electronically or on paper in secure facilities. Electronic records are stored on DOT's secure ESC servers or on the Commission's secure network and other electronic media as needed, such as encrypted hard drives and back-up media. Paper records are stored in secured facilities.

POLICIES AND PRACTICES FOR RETRIEVAL OF RECORDS:

Certain information covered by this system of records notice may be retrieved by contract name, contract number, name, email address, physical address, or other unique individual identifiers, and other types of information by keyword search.

POLICIES AND PRACTICES FOR RETENTION AND DISPOSAL OF RECORDS:

Records for this system will be maintained in accordance with the retention periods in the dispositions schedules approved by the National Archives. All approved schedules are available at http://www.cftc.gov.

ADMINISTRATIVE, TECHNICAL, AND PHYSICAL SAFEGUARDS:

Records are protected from unauthorized access and improper use through administrative, technical, and physical security measures. Administrative safeguards include agency- and system-specific Rules of Behavior, agency-wide procedures for safeguarding personally identifiable information, and required annual privacy and security training. Technical security measures within CFTC include restrictions on computer access to authorized individuals who have a legitimate need-to-know the information; required use of strong passwords that are frequently changed; multi-factor authentication for remote access and access to many CFTC network components; use of encryption for certain data types and transfers; firewalls and intrusion detection applications; and regular review of security procedures and best practices to enhance security. Physical safeguards include restrictions on building access to authorized individuals, 24-hour security guard service, and maintenance of records in lockable offices and filing cabinets.

RECORD ACCESS PROCEDURES:

Individuals seeking to determine whether this system of records contains information about themselves or seeking access to records about themselves in this system of records should address written inquiries to the Office of General Counsel, Commodity Futures Trading Commission, Three Lafayette Centre, 1155 21st Street NW, Washington, DC 20581. See 17 CFR 146.3 for full details on what to include in Privacy Act access request.

CONTESTING RECORD PROCEDURES:

Individuals contesting the content of records about themselves contained in this system of records should address written inquiries to the Office of General Counsel, Commodity Futures Trading Commission, Three Lafayette Centre, 1155 21st Street NW, Washington, DC 20581. See 17 CFR 146.8 for full details on what to include in a Privacy Act amendment request.

NOTIFICATION PROCEDURES:

Individuals seeking notification of any records about themselves contained in this system of records should address written inquiries to the Office of General Counsel, Commodity Futures Trading Commission, Three Lafayette Centre, 1155 21st Street NW, Washington, DC 20581. See 17 CFR 146.3 for full details on what to include in a Privacy Act notification request.

EXEMPTIONS PROMULGATED FOR THE SYSTEM:

None.

HISTORY:

None.

Issued in Washington, DC, on February 7, 2018, by the Commission.
Robert N. Sidman,
Deputy Secretary of the Commission.

[FR Doc. 2018-02812 Filed 2-9-18; 8:45 am]

BILLING CODE 6351-01-P